COMMISSION ON CIVIL RIGHTS

Agenda and Notice of Public Meeting of the Florida Advisory Committee

Notice is hereby given, pursuant to the provisions of the rules and regulations of the U.S. Commission on Civil Rights, that a planning meeting with briefing of the Florida Advisory Committee to the Commission will convene at 1 p.m. and adjourn at 5 p.m. on Thursday, August 29, 2002, at the Omni Hotel Jacksonville, 245 Waters Street, Jacksonville, Florida 32202. The purpose of the planning meeting with briefing is to: (1) Provide new member orientation, (2) be briefed by the mayor and the staff of Jacksonville on city contracts, and (3) be briefed by the Clay County officials on the incarceration of immigrants.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, July 26, 2002.
Ivy L. Davis,
Chief, Regional Programs Coordination Unit.

[FR Doc. 02-19777 Filed 8-5-02; 8:45 am]

BILLING CODE 6335-01-P